DEPARTMENT OF COMMERCE

Census Bureau

Agency Information Collection Activities; Submission to the Office of Management and Budget (OMB) for Review and Approval; Comment Request; Vehicle Inventory and Use Survey

AGENCY: Census Bureau, Commerce.

ACTION: Notice of information collection, request for comment.

SUMMARY: The Department of Commerce, in accordance with the Paperwork Reduction Act (PRA) of 1995, invites the general public and other Federal agencies to comment on proposed, and continuing information collections, which helps us assess the impact of our information collection requirements and minimize the public's reporting burden. The purpose of this notice is to allow for 60 days of public comment on a proposed revision to the Vehicle Inventory and Use Survey, prior to the submission of the information collection request (ICR) to OMB for approval.

DATES: To ensure consideration, comments regarding this proposed information collection must be received on or before June 14, 2022.

ADDRESSES: Interested persons are invited to submit written comments by email to Thomas.J.Smith@census.gov. Please reference Vehicle Inventory and Use Survey in the subject line of your comments. You may also submit comments, identified by Docket Number USBC-2022-0008, to the Federal e-Rulemaking Portal: http://www.regulations.gov. All comments received are part of the public record. No comments will be posted to http://www.regulations.gov for public viewing until after the comment period has closed. Comments will generally be posted without change. All Personally Identifiable Information (for example, name and address) voluntarily submitted by the commenter may be publicly accessible. Do not submit Confidential Business Information or otherwise sensitive or protected information. You may submit attachments to electronic comments in Microsoft Word, Excel, or Adobe PDF file formats.

FOR FURTHER INFORMATION CONTACT: Requests for additional information or specific questions related to collection activities should be directed to Kelly Holder, VIUS Branch Chief, (301)763-3462, Kelly.A.Holder@census.gov.

SUPPLEMENTARY INFORMATION:

I. Abstract

The 2021 VIUS collects data to measure the physical and operational characteristics of trucks from a sample of approximately 150,000 trucks. These trucks are selected from more than 190 million private and commercial trucks registered with motor vehicle departments in the 50 states and the District of Columbia. The Census Bureau is collecting the data for the sampled trucks from the registered truck owners.

The VIUS is the only comprehensive source of information on the physical and operational characteristics of the Nation's truck population. The VIUS provides unique, essential information for government, business, and academia. The U.S. Department of Transportation, State Departments of Transportation, and transportation consultants compliment VIUS microdata as extremely useful and flexible to meet constantly changing requests that cannot be met with predetermined tabular publications. The planned microdata file will enable them to cross-tabulate data to meet their needs.

Due to an oversight, the materials submitted to OMB for review in the original request for clearance of the VIUS did not include the complete legal authority for the mandatory collection of the VIUS. Currently our collection authority cites that title 13, United States Code, sections 131 and 182, authorizes the collection and sections 224 and 225 make the collection mandatory. However, sections 224 and 225 only apply to respondents who are part of a company, business, or organization. Section 221 also needs to be cited to require mandatory response for individual owners of personal vehicles who are included in the VIUS sample. Including the correct citation will allow us to make VIUS mandatory for individuals who own personal vehicles, as intended.

The Census Bureau is separately pursuing clearance under the emergency processing provisions of the PRA so that we may implement this change immediately. In the interest of maintaining transparency with the public, this notice announces our intention to also seek approval for this change under the normal clearance procedures of the PRA.

II. Method of Collection

The Vehicle Inventory and Use Survey uses two modes of data collection: Electronic instrument and paper questionnaire. All respondents will receive an initial letter with instructions to log into the electronic instrument. Respondents will be encouraged to use the electronic instrument method, however, a paper questionnaire will be sent as part of the non-response follow-up operation.

Data are collected via two questionnaires based on truck type, one for light trucks (pickups, SUVs, minivans) and one for heavy trucks (including truck tractors). Content differs somewhat between the two forms.

III. Data

OMB Control Number: 0607-0892.

Form Number(s): TC-9501 (Light Trucks) and TC-9502 (Heavy Trucks).

Type of Review: Regular submission, Revision of a Currently Approved Collection.

Affected Public: Individuals and businesses.

Estimated Number of Respondents: 150,000.

Estimated Time per Response: 65 minutes per vehicle.

Estimated Total Annual Burden Hours: 162,500.

Estimated Total Annual Cost to Public: $0 (This is not the cost of respondents' time, but the indirect costs respondents may incur for such things as purchases of specialized software or hardware needed to report, or expenditures for accounting or records maintenance services required specifically by the collection.)

Respondent's Obligation: Mandatory.

Legal Authority: Title 13 U.S.C., Sections 131 and 182 authorize the collection of VIUS data. Sections 221, 224 and 225 of Title 13 U.S.C. make reporting mandatory for all respondents, including both individuals and businesses.

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include, or summarize, each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Chief Information Officer, Commerce Department.

[FR Doc. 2022-08148 Filed 4-14-22; 8:45 am]

BILLING CODE 3510-07-P